DEPARTMENT OF HOMELAND SECURITY

Coast Guard

33 CFR Part 165

[CGD05-06-052]

RIN 1625-AA87

Security Zone; Severn River and College Creek, Annapolis, MD

AGENCY: Coast Guard, DHS.

ACTION: Temporary final rule; correction.

SUMMARY: The Coast Guard published a document in the Federal Register on June 1, 2006 (71 FR 31088), correcting the coordinates described in the security zone. However, that correction contained an incorrect section number. This document corrects that section number.

DATES: The correction to this rule is effective May 25, 2006. The rule itself is effective May 26, 2006.

ADDRESSES: Documents indicated in this preamble as being available in the docket are part of docket CGD05-06-052 and are available for inspection or copying at Commander, Coast Guard Sector Baltimore, 2401 Hawkins Point Road, Baltimore, Maryland 21226-1791, between 9 a.m. and 4 p.m., Monday through Friday, except Federal holidays.

FOR FURTHER INFORMATION CONTACT: Ronald L. Houck, Waterways Management Division, U.S. Coast Guard Sector Baltimore, telephone 410-576-2674, Fax 410-576-2553.

SUPPLEMENTARY INFORMATION: In FR Doc. E6-8428 appearing on page 31088 in the Federal Register of June 1, 2006, the following correction to the section number is made:

§ 165.35-T05-052 [Corrected]

1. On page 31088, in the third column, correct the bold heading four lines below the SUPPLEMENTARY INFORMATION heading to read “§ 165.T05-052 [Corrected]”.

2. On page 31088, in the third column, in the second and third lines of instruction 1., correct the section number and heading to read “§ 165.T05-052 Severn River and College Creek, Annapolis, MD”.

Dated: June 9, 2006.
Stefan G. Venckus,
Chief, Office of Regulations and Administrative Law, United States Coast Guard.

[FR Doc. E6-9411 Filed 6-15-06; 8:45 am]

BILLING CODE 4910-15-P